DEPARTMENT OF COMMERCE

National Oceanic and Atmospheric Administration

[I.D. 080300B]

Marine Mammals; File No. 555-1565

AGENCY: National Marine Fisheries Service (NMFS), National Oceanic and Atmospheric Administration (NOAA), Commerce.

ACTION: Issuance of permit.

SUMMARY: Notice is hereby given that Dr. James T. Harvey (Principal Investigator, PI), Moss Landing Marine Laboratories, P.O. Box 450, Moss Landing CA 95039 has been issued a permit to take Pacific harbor seals (Phoca vitulina richardsi) for purposes of scientific research.

ADDRESSES:

The permit and related documents are available for review upon written request or by appointment in the following office(s):

Permits and Documentation Division, Office of Protected Resources, NMFS, 1315 East-West Highway, Room 13705, Silver Spring, MD 20910 (301/713-2289);

Regional Administrator, Northwest Region, 7600 Sand Point Way, NE, BIN C15700, Seattle, WA 98115-0070,(206/526-6150);

Regional Administrator, Southwest Region, 501 West Ocean Blvd., Suite 4200, Long Beach, California 90802-4213,(562/980-4001).

FOR FURTHER INFORMATION CONTACT: Simona Roberts or Ruth Johnson, 301/713-2289.

SUPPLEMENTARY INFORMATION: On June 6, 2000, notice was published in the Federal Register (65 FR 35903) that a request for a scientific research permit to take Pacific harbor seals had been submitted by the above-named individual. The requested permit has been issued under the authority of the Marine Mammal Protection Act of 1972, as amended (16 U.S.C. 1361 et seq.) and the Regulations Governing the Taking and Importing of Marine Mammals (50 CFR part 216).

The applicant is authorized to capture, handle and tag 1,600 Pacific harbor seals per year of all age and sex classes near haul-out sites throughout California, Oregon and Washington. Captured seals will be subject to all or some of the following activities: blood and tissue sampling, flipper tagging, PIT tagging, branding, lavaging, and video camera attachment. Acoustic playback experiments and scat collection are also authorized around the haul-out sites. In addition, the applicant is authorized to surgically implant radio tags in 15 captive, rehabilitated Pacific harbor seals and to conduct feeding studies on 12 captive, rehabilitated Pacific harbor seals.

Dated: October 5, 2000.
Ann Terbush,
Permit and Documentation Division, Office of Protected Resources, National Marine Fisheries Service.

[FR Doc. 00-26084 Filed 10-10-00; 8:45 am]

BILLING CODE 3510-22-S